DEPARTMENT OF JUSTICE

Notice of Lodging of Consent Decree Under the Clean Water Act and Clean Air Act

Notice is hereby given that on March 5, 2010, a proposed Consent Decree in United States v. ESSROC San Juan, Inc., Civil Action No. 3:09-cv-01578, was filed with the United States District Court for the District of Puerto Rico.

In this action, the United States sought penalties and injunctive relief for the Defendant's violations of the Clean Water Act, 33 U.S.C. 1251 et seq., and the Clean Air Act, 42 U.S.C. 7401 et seq. at its portland cement manufacturing plant in Dorado, Puerto Rico.

To resolve the United States' claims, the Defendant will pay a penalty of $275,000 and perform injunctive relief including the installation of water effluent controls, the rerouting of air emissions through control devices, and enhanced monitoring provisions. In addition the Defendant will perform a supplemental environmental project requiring it to grant a conservation easement over 5.3 acres of land to the Puerto Rico Department of Natural Resources.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to either: United States v. ESSROC San Juan, Inc., Civil Action No. 3:09-cv-01578, D.J. Ref. 90-5-2-1-08412. The Consent Decree may be examined at the Office of the United States Attorney for the District of Puerto Rico at Torre Chardon, Suite 1201, 350 Carlos Chardon Avenue, San Juan, Puerto Rico 00918, and at U.S. EPA Region 2 Caribbean Environmental Protection Division, Centro Europa Building, 1492 Ponce Deleon Avenue, Suite 417, San Juan, Puerto Rico 00907. During the public comment period, the Consent Decrees may also be examined on the following Department of Justice Web site, http://www.usdoj.gov/enrd/Consent_Decrees.html. A copy of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check, payable to the U.S. Treasury, in the amount of $13.25 (25 cents per page reproduction cost), or, if by e-mail or fax, forward a check in the applicable amount to the Consent Decree Library at the stated address.

Maureen Katz,
Assistant Chief, Environmental Enforcement Section, Environment and Natural Resources Division.

[FR Doc. 2010-5223 Filed 3-10-10; 8:45 am]

BILLING CODE 4410-15-P